DEPARTMENT OF JUSTICE

Antitrust Division

Notice Pursuant to the National Cooperative Research and Production Act of 1993—OBI Consortium, Inc.

Notice is hereby given that, on March 3, 2000, pursuant to section 6(a) of the National Cooperative Research and Production Act of 1993, 15 U.S.C. 4301 et seq. (“the Act”), OBI Consortium, Inc. has filed written notifications simultaneously with the Attorney General and the Federal Trade Commission disclosing changes in its membership status. The notifications were filed for the purpose of extending the Act's provisions limiting the recovery of antitrust plaintiffs to actual damages under specified circumstances. Specifically, i2 Technologies, Dallas, TX; Internet Operations Center, Southfield, MI; NetPlanet LLC, Troy, MI; and Yantra Corporation, Action, MA have been added as parties to this venture.

No other changes have been made in either the membership or planned activity of the group research project. Membership in this group research project remains open, and OBI Consortium, Inc. intends to file additional written notification disclosing all changes in membership.

On September 10, 1997, OBI Consortium, Inc. filed its original notification pursuant to section 6(a) of the Act. The Department of Justice published a notice in the Federal Register pursuant to section 6(b) of the Act on November 10, 1997 (62 FR 60531).

The last notification was filed with the Department on November 26, 1999. A notice was published in the Federal Register pursuant to Section 6(b) of the Act on April 28, 2000 (65 FR 24983).

Constance K. Robinson,
Director of Operations, Antitrust Division.

[FR Doc. 00-16483 Filed 6-28-00; 8:45 am]

BILLING CODE 4410-11-M